ENVIRONMENTAL PROTECTION AGENCY

[FRL-7935-8]

Clean Water Act Section 303(d): Notice Final Agency Action Withdrawing Nine Total Maximum Daily Loads (TMDLs)

AGENCY: Environmental Protection Agency (EPA).

ACTION: Notice of Withdrawal of nine TMDLs.

Subject: This notice announces EPA final action withdrawing nine TMDLs in the water column that EPA established pursuant to the Clean Water Act (“CWA”) section 303(d) in Louisiana. EPA is withdrawing these nine TMDLs because on September 22, 2003, Louisiana promulgated revisions to the Louisiana water quality standards regulations (LAC 33:IX, 1123.C.1).

Background: Louisiana revised its water quality standards for chloride, sulfate and TDS for subsegments 060204, 060211, and 060301; and for sulfate and TDS for subsegments 060801 and 060802 located in the Vermillion-Teche River Basin that receive water diverted from the Atchafalaya River.

The Louisiana Department of Environmental Quality (LDEQ) General Counsel certified these water quality standards revisions and submitted them to EPA on September 22, 2003. EPA received the revisions and certification on September 23, 2003, pursuant to 40 CFR 131.5, and EPA approved these revisions to the water quality standards (WQS) on December 22, 2003.

The numeric criteria for chloride for subsegments 060204, 060211, and 060301 was revised from 40 mg/L to 65 mg/L; the numeric criteria for sulfate for subsegments 060204, 060211, 060301, 060801 and 060802 was revised from 30 mg/L to 70 mg/L; and, the numeric criteria for TDS for subsegments 060204, 060211, 060301, 060801 and 060802 was revised from 220 mg/L to 440 mg/L. Following the revisions to the water quality standards LDEQ re-assessed the ambient water quality data from the affected water bodies to determine whether the water quality standards were met, using data from January 1, 1998 through August 20, 2004. Based on the re-assessment, the revised water quality standards for sulfate, chloride, and TDS for subsegments 060204, 060211, 060301, 060801, and 060802 are met. Thus, EPA is withdrawing these nine TMDLs.

EPA Withdraws Previously Approved TMDLs for Nine Waterbody/Pollutant Combinations That Are Not Needed Due to Assessment of New Data That Show They Are Meeting New WQS:

Subsegment | Waterbody name | Pollutant
060204 | Bayou Courtableau—origin to West Atchafalaya Borrow Pit Canal | Sulfate and TDS/Salinity.
060211 | West Atchafalaya Borrow Pit Canal—from Bayou Courtableau to Henderson, LA, includes Bayou Portage | Sulfate and TDS/Salinity.
060301 | Bayou Teche—headwaters at Bayou Courtableau to Keystone Locks and Dam | Sulfate, TDS/Salinity, and, Chloride.
060801 | Vermilion River—headwaters at Bayou Fusilier-Bourbeaux junction to New Flanders (Ambassador Caffery) Bridge, Hwy. 3073 | Sulfate.
060802 | Vermilion River—from New Flanders (Ambassador Caffery) Bridge, Hwy. 3073 to Intracoastal Waterway | Sulfate.

EPA established these nine TMDLs under CWA section 303(d) to satisfy a consent decree obligation in the lawsuit styled Sierra Club v. Clifford, Civ. No. 96-0527 (E.D. La.). Because the affected water bodies are meeting the revised water quality standards, they are no longer impaired under CWA section 303(d). LDEQ has no present obligation under the CWA to submit TMDLs to EPA for these pollutants on these subsegments, nor does the CWA require EPA to maintain these nine TMDLs. Other TMDLs either developed by EPA or LDEQ are not affected by this determination.

FOR FURTHER INFORMATION CONTACT: Diane Smith, Environmental Protection Specialist, Water Quality Protection Division, U.S. EPA Region 6, 1445 Ross Avenue, Dallas, TX 75202-2733, (214) 665-2145.

Dated: June 28, 2005.
William K. Honker,
Acting Director, Water Quality Protection Division, Region 6.

[FR Doc. 05-13491 Filed 7-7-05; 8:45 am]

BILLING CODE 6560-50-P